DEPARTMENT OF ENERGY

Notice of Orders Issued Under Section 3 of The Natural Gas Act During March 2019

| FE Docket Nos.
VENTURE GLOBAL CALCASIEU PASS, LLC | 13-69-LNG; 14-88-LNG; 15-25-LNG
DERSA OIL & GAS CORPORATION | 19-13-NG
CITIGROUP ENERGY CANADA, ULC | 19-14-NG
ROYAL BANK OF CANADA | 18-182-NG
SOCIETE GENERALE ENERGY, LLC | 19-22-NG
PILOT POWER GROUP, INC | 19-15-NG
PACIFICORP | 19-18-NG
ST. LAWRENCE GAS COMPANY, INC | 19-19-NG
KOCH ENERGY SERVICES, LLC | 19-20-NG
2IYE, LLC | 19-21-LNG
ALLIANCE CANADA MARKETING LP | 19-16-NG
FREEPOINT COMMODITIES LLC | 19-24-NG
TIDEWATER MIDSTREAM AND INFRASTRUCTURE LTD | 19-25-NG
HERMISTON GENERATING COMPANY, L.P | 17-54-NG
IRVING OIL COMMERCIAL GP AND IRVING OIL TERMINALS OPERATIONS LLC | 15-165-NG
NEXTERA ENERGY MARKETING, LLC | 19-29-NG; 18-176-NG
MAGNOLIA LNG LLC | 12-183-LNG; 13-131-LNG
CITIGROUP COMMODITIES CANADA ULC | 19-30-NG
LOGISTIC ENERGY AND PETROLEUM SERVICES INC. | 19-31-LNG
MIECO INC | 19-32-NG
PEMBINA MIDSTREAM (U.S.A.) INC | 19-17-NG
ENERGIA COSTA AZUL, S. DE R.L. DE C.V | 18-144-LNG
ENERGIA COSTA AZUL, S. DE R.L. DE C.V | 18-145-LNG
RBC ENERGY SERVICES LP | 19-33-NG
NORTHLAND POWER ENERGY MARKETING (US) INC | 19-26-NG

AGENCY: Office of Fossil Energy, Department of Energy.

ACTION: Notice of orders.

SUMMARY: The Office of Fossil Energy (FE) of the Department of Energy gives notice that during March 2019, it issued orders granting authority to import and export natural gas, to import and export liquefied natural gas (LNG), amending and vacating prior authorization. These orders are summarized in the attached appendix and may be found on the FE website at https://www.energy.gov/fe/listing-doefe-authorizationsorders-issued-2019.

They are also available for inspection and copying in the U.S. Department of Energy (FE-34), Division of Natural Gas Regulation, Office of Regulation, Analysis, and Engagement, Office of Fossil Energy, Docket Room 3E-033, Forrestal Building, 1000 Independence Avenue SW, Washington, DC 20585, (202) 586-9478. The Docket Room is open between the hours of 8:00 a.m. and 4:30 p.m., Monday through Friday, except Federal holidays.

Issued in Washington, DC, on April 29, 2019.
Amy Sweeney,
Director, Division of Natural Gas Regulation.

Appendix

DOE/FE Orders Granting Import/Export Authorizations
4346 | 03/05/19 | 13-69-LNG; 14-88-LNG; 15-25-LNG (Consolidated) | Venture Global Calcasieu Pass, LLC | Opinion and Order 4346 granting long-term authority to export LNG to Non-Free Trade Agreement Nations, includes Record of Decision.
4347 | 03/11/19 | 19-13-NG | Dersa Oil & Gas Corporation | Order 4347 granting blanket authority to export natural gas to Mexico.
4348 | 03/11/19 | 19-14-NG | Citigroup Energy Canada, ULC | Order 4348 granting blanket authority to import/export natural gas from/to Canada.
4349 | 03/11/19 | 18-182-NG | Royal Bank of Canada | Order 4349 granting blanket authority to import/export natural gas from/to Canada.
4350 | 03/11/19 | 19-22-NG | Societe Generale Energy LLC | Order 4350 granting blanket authority to import/export natural gas from/to Canada/Mexico.
4351 | 03/11/19 | 19-15-NG | Pilot Power Group, Inc | Order 4351 granting blanket authority to import/export natural gas from/to Canada/Mexico.
4352 | 03/11/19 | 19-18-NG | PacifiCorp | Order 4352 granting blanket authority to import/export natural gas from/to Canada.
4353 | 03/11/19 | 19-19-NG | St. Lawrence Gas Company, Inc | Order 4353 granting blanket authority to export natural gas to Canada.
4354 | 03/11/19 | 19-20-NG | Koch Energy Services, LLC | Order 4354 granting blanket authority to import/export natural gas from/to Canada.
4355 | 03/11/19 | 19-21-LNG | 2iye Energy, LLC | Order 4355 granting blanket authority to import LNG from various international sources by vessel.
4356 | 03/11/19 | 19-16-NG | Alliance Canada Marketing LP | Order 4356 granting blanket authority to import natural gas from Canada.
4357 | 03/11/19 | 19-24-NG | Freepoint Commodities LLC | Order 4357 granting blanket authority to import/export natural gas from/to Canada/Mexico.
4358 | 03/11/19 | 19-25-NG | Tidewater Midstream and Infrastructure Ltd | Order 4358 granting blanket authority to import/export natural gas from/to Canada.
4030-A | 03/11/19 | 17-54-NG | Hermiston Generating Company, LP | Order 4030-A vacating blanket authority to import natural gas from Canada.
3765-C | 03/11/19 | 15-165-NG | Irving Oil Commercial GP and Irving Oil Terminals Operations LLC | Order 3765-C granting Request to Amend authority to import/export natural gas from/to Canada.
4359; 4310-A | 03/18/19 | 19-29-NG; 18-176-NG | NextEra Energy Marketing, LLC | Order 4359 granting blanket authority to import/export natural gas from/to Canada, to export natural gas to Mexico, and Order 4310-A vacating prior authority.
3245-A; 3406-A | 03/21/19 | 12-183-LNG; 13-131-LNG | Magnolia LNG LLC | Orders 3245-A and 3406-A amending Long-Term Multi-Contract authority to export LNG by vessel from the proposed Magnolia LNG Terminal to Free Trade Agreement Nations.
4360 | 03/27/19 | 19-30-NG | Citigroup Commodities Canada ULC | Order 4360 granting blanket authority to import/export natural gas from/to Canada.
4361 | 03/27/19 | 19-31-LNG | Logistic Energy and Petroleum Services Inc | Order 4361 granting blanket authority to import LNG from various international sources by vessel.
4362 | 03/27/19 | 19-32-NG | Mieco Inc | Order 4362 granting blanket authority to import/export natural gas from/to Canada.
4363 | 03/27/19 | 19-17-NG | Pembina Midstream (U.S.A.) Inc | Order 4363 granting blanket authority to import natural gas from Canada.
4364 | 03/29/19 | 18-144-LNG | Energia Costa Azul, S. de R.L. de C.V | Order 4364 granting long-term authority to export natural gas to Mexico and to re-export LNG from Mexico to Free Trade Agreement Nations and Non-Free Trade Agreement Nations (Mid-Scale).
4365 | 03/29/19 | 18-145-LNG | Energia Costa Azul, S. de R.L. de C.V | Order 4365 granting long-term authority to export natural gas to Mexico and to re-export LNG from Mexico to Free Trade Agreement Nations and Non-Free Trade Agreement Nations (Large-Scale).
4366 | 03/27/19 | 19-33-NG | RBC Energy Services LP | Order 4366 granting blanket authority to import/export natural gas from/to Canada.
4367 | 03/27/19 | 19-26-NG | Northland Power Energy Marketing (US) Inc | Order 4367 granting blanket authority to import/export natural gas from/to Canada.

[FR Doc. 2019-08942 Filed 5-1-19; 8:45 am]

BILLING CODE 6450-01-P